DEPARTMENT OF TRANSPORTATION

Federal Aviation Administration

14 CFR Part 39

[Docket No. FAA-2007-27269; Directorate Identifier 2006-NM-207-AD]

RIN 2120-AA64

Airworthiness Directives; Empresa Brasileira de Aeronautica S.A. (EMBRAER) Model ERJ 170 Airplanes

AGENCY: Federal Aviation Administration (FAA), Department of Transportation (DOT).

ACTION: Notice of proposed rulemaking (NPRM).

SUMMARY: The FAA proposes to adopt a new airworthiness directive (AD) for certain EMBRAER Model ERJ 170 airplanes. This proposed AD would require installing updated software revisions and, as applicable, doing concurrent actions. This proposed AD results from a report of an error in the implementation procedure of the Primus Epic digital software platform, which could result in improper functioning of certain flight systems. Further, current revisions of the Primus Epic software may cause blinking of all cockpit flight displays. We are proposing this AD to prevent improper functioning of certain flight systems and blinking of cockpit flight displays, which could lead to increased pilot workload during critical phases of flight.

DATES: We must receive comments on this proposed AD by March 26, 2007.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, Room PL-401, Washington, DC 20590.

Fax: (202) 493-2251.

Hand Delivery: Room PL-401 on the plaza level of the Nassif Building, 400 Seventh Street, SW., Washington, DC, between 9 a.m. and 5 p.m., Monday through Friday, except Federal holidays.

Contact Empresa Brasileira de Aeronautica S.A. (EMBRAER), P.O. Box 343—CEP 12.225, Sao Jose dos Campos—SP, Brazil, for service information identified in this proposed AD.

FOR FURTHER INFORMATION CONTACT: Todd Thompson, Aerospace Engineer, International Branch, ANM-116, Transport Airplane Directorate, FAA, 1601 Lind Avenue, SW., Renton, Washington 98057-3356; telephone (425) 227-1175; fax (425) 227-1149.

SUPPLEMENTARY INFORMATION:

Comments Invited

We invite you to submit any relevant written data, views, or arguments regarding this proposed AD. Send your comments to an address listed in the ADDRESSES section. Include the docket number “FAA-2007-27269; Directorate Identifier 2006-NM-207-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Agência Nacional de Aviação Civil (ANAC), which is the airworthiness authority for Brazil, notified us that an unsafe condition may exist on certain EMBRAER Model ERJ 170 airplanes. The ANAC advises of a reported error in the implementation procedure of the Primus Epic digital software platform, which may lead to an ineffective power-up built-in test (PBIT) of certain fly-by-wire (FBW), autoflight, and avionics system functions, which could result in improper functioning of those systems. Further, current Primus Epic software revisions may cause blinking of all cockpit flight displays. This condition, if not corrected, could lead to increased pilot workload during critical phases of flight.

Relevant Service Information

EMBRAER has issued Service Bulletin 170-31-0013, Revision 01, dated January 13, 2006. The service bulletin describes procedures for installing Primus Epic software part number (P/N) PS7027709-00113 (load version 17.3). For airplanes equipped with a lightning sensor system (LSS) and software load version 15.3 or 15.4, the installation includes doing certain wiring revisions of the LSS connector. For airplanes that have received all described software upgrades in accordance with EMBRAER Service Bulletin 170-31-0013, dated December 17, 2005, an additional action is described by Service Bulletin 170-31-0013, Revision 01. The additional action includes installing a new, upgraded loadable diagnostic information (LDI) database.

The ANAC mandated the service information and issued Brazilian airworthiness directive 2006-06-01, effective June 28, 2006, to ensure the continued airworthiness of these airplanes in Brazil.

For certain airplanes, EMBRAER Service Bulletin 170-31-0013, Revision 01, specifies prior or concurrent accomplishment of certain actions specified in EMBRAER Service Bulletin 170-73-0001, dated September 13, 2005, and Revision 01, dated September 23, 2005. These actions include installing full-authority digital engine-control (FADEC) software version V5.20.

FAA's Determination and Requirements of the Proposed AD

These airplane models are manufactured in Brazil and are type certificated for operation in the United States under the provisions of section 21.29 of the Federal Aviation Regulations (14 CFR 21.29) and the applicable bilateral airworthiness agreement. Pursuant to this bilateral airworthiness agreement, the ANAC has kept the FAA informed of the situation described above. We have examined the ANAC's findings, evaluated all pertinent information, and determined that we need to issue an AD for airplanes of this type design that are certificated for operation in the United States.

Therefore, we are proposing this AD, which would require accomplishing the actions specified in the service information described previously.

Clarification of Requirements

The ANAC airworthiness directive 2006-06-01 does not specifically state that prior or concurrent installation of FADEC software version V5.20 is required. However, to ensure proper correction of the unsafe condition, this proposed AD would require accomplishing this concurrent action. EMBRAER Service Bulletin 170-31-0013, Revision 01, describes EMBRAER Service Bulletin 170-73-0001 as the appropriate source of service information for doing the concurrent action. This difference has been coordinated with the ANAC.

Interim Action

We consider this proposed AD interim action. The manufacturer is developing a modification that will further address the unsafe condition identified in this proposed AD. Once this modification is approved and available, we may consider additional rulemaking.

Costs of Compliance

This proposed AD would affect about 68 airplanes of U.S. registry. Software upgrades would be provided by the manufacturer at no charge to operators, and parts for wiring changes would be provided from operator stores. The following table provides the estimated costs for U.S. operators to comply with this proposed AD at an average labor rate of $80 per work hour.

Estimated Costs
Action | Work hours | Cost per airplane | Fleet cost
Install software | Between 5 and 6 | Between $400 and $480 | Between $27,200 and $32,640.
Revise wiring | 1 | $80 | Up to $5,440.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Empresa Brasileira de Aeronautica S.A. (EMBRAER): Docket No. FAA-2007-27269; Directorate Identifier 2006-NM-207-AD.

Comments Due Date

(a) The FAA must receive comments on this AD action by March 26, 2007.

Affected ADs

(b) None.

Applicability

(c) This AD applies to EMBRAER Model ERJ 170-100 LR, -100 STD, -100 SE, -100 SU, -200 LR, -200 STD, and -200 SU airplanes, certificated in any category; as identified in EMBRAER Service Bulletin 170-31-0013, Revision 01, dated January 13, 2006.

Unsafe Condition

(d) This AD results from a report of an error in the implementation procedure of the Primus Epic digital software platform, which could result in improper functioning of certain flight systems. Further, current revisions of the Primus Epic software may possibly cause blinking of all cockpit flight displays. We are issuing this AD to prevent improper functioning of certain flight systems and blinking of cockpit flight displays, which could lead to increased pilot workload during critical phases of flight.

Compliance

(e) You are responsible for having the actions required by this AD performed within the compliance times specified, unless the actions have already been done.

Inspection for Software Identification

(f) Within 30 days after the effective date of this AD, inspect to determine the part number (P/N) of the Primus Epic software and the upgrade version number of the full-authority digital engine-control (FADEC) software installed on the airplane.

Software Installation and Concurrent Actions

(g) Within the compliance time specified in paragraph (g)(1) or (g)(2) of this AD, as applicable, install Primus Epic P/N PS7027709-00113 (load version 17.3) and do applicable wiring revisions; in accordance with the Accomplishment Instructions of EMBRAER Service Bulletin 170-31-0013, Revision 01, dated January 13, 2006.

(1) For airplanes equipped with software having P/N PS7027709-00108 (load version 15.3), P/N PS7027709-00109 (load version 15.4), or P/N PS7027709-00110 (load version 15.5): Within 30 days after the effective date of this AD.

(2) For airplanes equipped with software having P/N PS7027709-00106 (load version 17.1) or P/N PS7027709-00112 (load version 17.2.02): Within 120 days after the effective date of this AD.

Concurrent Actions

(h) For airplanes which do not have FADEC software upgrade version V5.20 installed at the time of the inspection required by paragraph (f) of this AD: Prior to or concurrently with the installation required by paragraph (g) of this AD, install FADEC software upgrade version V5.20 as specified in EMBRAER Service Bulletin 170-73-0001, dated September 13, 2005; or Revision 01, dated September 23, 2005.

Actions Accomplished According to Previous Issue of Service Bulletin

(i) Actions accomplished before the effective date of this AD according to EMBRAER Service Bulletin 170-31-0013, dated December 17, 2005, are considered acceptable for compliance with paragraph (g) of this AD; except that, for airplanes identified in paragraph 1D., “Additional Action,” of EMBRAER Service Bulletin 170-31-0013, Revision 01, dated January 13, 2006, the additional action specified in Service Bulletin 170-31-0013, Revision 01, must be done as required by this AD.

Alternative Methods of Compliance (AMOCs)

(j)(1) The Manager, International Branch, ANM-116, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(k) Brazilian airworthiness directive 2006-06-01, effective June 28, 2006, also addresses the subject of this AD.

Issued in Renton, Washington, on February 7, 2007.
Ali Bahrami,
Manager, Transport Airplane Directorate, Aircraft Certification Service.

[FR Doc. E7-2980 Filed 2-21-07; 8:45 am]

BILLING CODE 4910-13-P